DEPARTMENT OF COMMERCE

National Oceanic and Atmospheric Administration

RIN 0648-XZ68

Pacific Fishery Management Council (Pacific Council); November 3-9, 2010, Pacific Council Meeting

AGENCY: NMFS, National Oceanic and Atmospheric Administration, Commerce.

ACTION: Notice of public meetings.

SUMMARY: The Pacific Council and its advisory entities will hold public meetings.

DATES: The Pacific Council and its advisory entities will meet November 3-9, 2010. The Pacific Council meeting will begin on Thursday, November 4, 2010 at 9:30 a.m., reconvening each day through Tuesday, November 9, 2010. All meetings are open to the public, except a closed session will be held from 9:30 a.m. until 10:30 a.m. on Thursday, November 4 to address litigation and personnel matters. The Pacific Council will meet as late as necessary each day to complete its scheduled business.

ADDRESSES: Meetings of the Pacific Council and its advisory entities will be held at the Hilton Orange County Costa Mesa Hotel, 3050 Bristol Street, Costa Mesa, California 92626; telephone: 714-540-7000. The Pacific Council address is Pacific Fishery Management Council, 7700 NE Ambassador Place, Suite 101, Portland, Oregon 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks and Introductions

2. Roll Call

3. Executive Director's Report

4. Approve Agenda

B. Open Comment Period

1. Comments on Non-Agenda Items

C. Enforcement Issues

1. Washington Department of Fish and Wildlife Enforcement Report

D. Ecosystem Based Management

1. Ecosystem Science Information Session

E. Habitat

1. Current Habitat Issues

2. Deepwater Coral Information Report

F. Salmon Management

1. Preseason Salmon Management Schedule for 2011

2. Fishery Management Plan Amendment 16, Annual Catch Limits and Accountability Measures

3. Progress Report on Sacramento River Fall Chinook Overfishing Assessment

4. Mitchell Act Hatchery Draft Environmental Impact Statement

5. 2010 Salmon Methodology Review

G. Pacific Halibut Management

1. 2011 Pacific Halibut Regulations

H. Groundfish Management

1. Initial Consideration of Revisions to the Groundfish Biennial Management Process

2. National Marine Fisheries Service Report

3. Consideration of Inseason Adjustments—Part I

4. Final Review of Exempted Fishing Permits for 2011

5. Implementation Update for Amendment 20 (Trawl Rationalization) and Amendment 21 (Intersector Allocation) as well as Scoping of Prioritized Trailing Amendments

6. Consideration of Inseason Adjustments—Part II, if Necessary

I. Coastal Pelagic Species Management

1. National Marine Fisheries Service Report

2. Pacific Sardine Stock Assessment and Coastal Pelagic Species Management Measures for 2011

3. Terms of Reference for Stock Assessment and Methodology Review Panels

4. Coastal Pelagic Species Essential Fish Habitat Five Year Review

J. Highly Migratory Species Management

1. National Marine Fisheries Service Report

2. Changes to Biennial Management Measures for 2011-2012

3. Recommendations to International Fishery Management Organizations

K. Administrative Matters

1. Approval of Council Meeting Minutes

2. Fiscal Matters

3. Membership Appointments, Council Operating Procedures, and Miscellaneous Administrative Matters

4. Future Council Meeting Agenda and Workload Planning

Schedule of Ancillary Meetings

Day 1—Wednesday, November 3, 2010

Habitat Committee—8 a.m.

Salmon Advisory Subpanel—8 a.m.

Salmon Technical Team and Salmon Amendment Committee Joint Session—8 a.m.

Scientific and Statistical Committee—8 a.m.

Ad Hoc Mitchell Act Committee—8:30 a.m.

Budget Committee—3:30 p.m.

Annual Awards Banquet—6 p.m.

Day 2—Thursday, November 4, 2010

California State Delegation—7 a.m.

Oregon State Delegation—7 a.m.

Washington State Delegation—7 a.m.

Groundfish Advisory Subpanel— 8 a.m.

Habitat Committee—8 a.m.

Salmon Advisory Subpanel—8 a.m.

Salmon Technical Team and Salmon Amendment Committee Joint Session—8 a.m.

Scientific and Statistical Committee—8 a.m.

Groundfish Management Team— 2 p.m.

Enforcement Consultants—4:30 p.m.

Day 3—Friday, November 5, 2010

California State Delegation—7 a.m.

Oregon State Delegation—7 a.m.

Washington State Delegation—7 a.m.

Coastal Pelagic Species Advisory Subpanel—8 a.m.

Coastal Pelagic Species Management Team—8 a.m.

Groundfish Advisory Subpanel— 8 a.m.

Groundfish Management Team— 8 a.m.

Enforcement Consultants—As Necessary

Day 4—Saturday, November 6, 2010

California State Delegation—7 a.m.

Oregon State Delegation—7 a.m.

Washington State Delegation—7 a.m.

Coastal Pelagic Species Advisory Subpanel—8 a.m.

Coastal Pelagic Species Management Team—8 a.m.

Groundfish Advisory Subpanel— 8 a.m.

Groundfish Management Team— 8 a.m.

Enforcement Consultants—As Necessary

Day 5—Sunday, November 7, 2010

California State Delegation—7 a.m.

Oregon State Delegation—7 a.m.

Washington State Delegation—7 a.m.

Groundfish Advisory Subpanel— 8 a.m.

Groundfish Management Team— 8 a.m.

Highly Migratory Species Advisory Subpanel—8 a.m.

Highly Migratory Species Management Team—8 a.m.

Enforcement Consultants—As Necessary

Day 6—Monday, November 8, 2010

California State Delegation—7 a.m.

Oregon State Delegation—7 a.m.

Washington State Delegation—7 a.m.

Groundfish Advisory Subpanel— 8 a.m.

Groundfish Management Team— 8 a.m.

Highly Migratory Species Advisory Subpanel—8 a.m.

Highly Migratory Species Management Team—8 a.m.

Enforcement Consultants—As Necessary

Day 7—Tuesday, November 9, 2010

California State Delegation—7 a.m.

Oregon State Delegation—7 a.m.

Washington State Delegation—7 a.m.

Enforcement Consultants—As Necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at 503-820-2280 at least five days prior to the meeting date.

Dated: October 12, 2010.
Tracey L. Thompson,
Acting Director, Office of Sustainable Fisheries, National Marine Fisheries Service.

[FR Doc. 2010-25979 Filed 10-14-10; 8:45 am]

BILLING CODE 3510-22-P